DEPARTMENT OF THE INTERIOR

National Park Service

[NPS-WASO-NAGPRA-22721; PPWOCRADN0-PCU00RP14.R50000]

Notice of Inventory Completion: U.S. Department of Defense, Department of the Navy, Washington, DC

AGENCY: National Park Service, Interior.

ACTION: Notice.

SUMMARY: The U.S. Department of Defense, Department of the Navy (DoN) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Department of the Navy. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Department of the Navy at the address in this notice by March 27, 2017.

ADDRESSES: Dr. Susan S. Hughes, Archaeologist, Department of the Navy, NAVFAC NW., 1101 Tautog Circle, Silverdale, WA 98315, telephone (360) 396-0083, email susan.s.hughes@navy.mil.

SUPPLEMENTARY INFORMATION: Notice is here given in accordance with the Native American Graves Protection and Repatriation Act (NAGPRA), 25 U.S.C. 3003, of the completion of an inventory of human remains under the control of the Department of the Navy. The human remains were removed from Indian Island, Jefferson County, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of the Navy professional staff in consultation with representatives of the Jamestown S'Klallam Tribe and Port Gamble S'Klallam Tribe (previously listed as the Port Gamble Band of S'Klallam Indians).

History and Description of the Remains

In 1976, human remains representing, at minimum, 2 individuals were removed from Walan Point, Indian Island in Jefferson County, WA. The site was first recorded by G.L. Coale in 1956. Prior to the construction of an ammunitions pier and support facilities on the sandspit, Astrida Blukis Onat with Seattle Central Community College conducted test excavations at the site in 1975. Analysis of the materials indicated the site to be a temporary procurement camp less than 2000 years old. Among the many artifacts recovered were fragments of unidentified human bone from four excavation units: 92N10W, 98N8W, 114N8W, and 130N11W. These materials were briefly mentioned in Blukis Onat's 1976 report. During pier construction later that year, heavy equipment unearthed two human burials at depths of 40 to 60 centimeters below the surface along with several surface bone fragments. One of the burials was estimated to be 300 years old based on the decomposition of the cedar box that the individual was buried in. These remains were studied by a physical anthropologist and the results summarized in Blukis Onat and Haversat (1977). All materials recovered from the excavations were transferred to the Washington State University's Museum of Anthropology for storage.

Following a 1995 curation assessment performed by the Washington State University Museum (Andrefsky et al. 1995), all known human remains and associated funerary objects from the Walan Point site were repatriated with the Jamestown S'Klallam Tribe. The Notice of Inventory Completion was published in the Federal Register on December 17, 1998, 63 FR 69651. The human remains and associated funerary objects were transferred to the S'Klallam on February 8, 1999, and subsequently re-interred in a repatriation cemetery on NAVMAG Indian Island. In 2002, the remaining artifacts and excavation records from Walan Point were transferred from Washington State University to the Jamestown S'Klallam Reservation Tribal Center in Blyn, WA. The Jamestown S'Klallam moved the materials to a different facility in 2015. That same year, the U.S. Army Corps of Engineers Center of Expertise for the Curation and Management of Archaeological Collections performed an updated Curation Assessment of the Indian Island collection at the new facility. During this assessment, two small bags labeled as human remains, each containing one bone, were found in a box of faunal remains (Williams 2015).

In 2016, these two bones were sent to Dr. Guy Tasa, forensic anthropologist with the Washington State Department of Archaeology and Historic Preservation, for identification. Dr. Tasa identified the bones as representing two sub-adult humans of unknown sex. The first is a humoral head belonging to a child, aged 5 to 16 years of age; the second, the left tibia epiphysis from a sub-adult, aged 10 to 15 years. These bones appear to have been recovered from Blukis Onat's 1976 excavation, units 92N10W and 98N8W, respectively. It is the intent of the Department of the Navy to repatriate these additional human remains from the Walan Point site. No known individuals were identified. No associated funerary objects are present.

Based on the ethnographic data, tribal accounts, and archeological data, the Department of the Navy has determined that the Jamestown S'Klallam, Lower Elwha Clallam, and Port Gamble S'Klallam Tribes are most closely affiliated with these remains. Ethnographic studies place Indian Island within the traditional territory of the Chemakum Tribe. By the early 1850s, the Chemakum population was reduced to 90 individuals; by 1878, only 13 individuals remained. The much larger Clallam (S'Klallam) Tribe, whose territory joined the Chemakum's on the west, took over Chemakum territory in the later 1800s, and the few remaining Chemakum still living in the area joined with the Clallam Tribe.

Determinations Made by the Department of the Navy

Officials of the Department of the Navy have determined that:

• Pursuant to 25 U.S.C. 3001(9), the human remains described in this notice represent the physical remains of 2 individuals of Native American ancestry.

• Pursuant to 25 U.S.C. 3001(2), there is a relationship of shared group identity that can be reasonably traced between the Native American human and the Jamestown S'Klallam Tribe, Lower Elwha Tribal Community (previously listed as the Lower Elwha Tribal Community of the Lower Elwha Reservation, Washington), and Port Gamble S'Klallam Tribe (previously listed as the Port Gamble Band of S'Klallam Indians).

Additional Requestors and Disposition

Lineal descendants or representatives of any Indian tribe or Native Hawaiian organization not identified in this notice that wish to request transfer of control of these human remains should submit a written request with information in support of the request to Dr. Susan S. Hughes, Archaeologist, Department of the Navy, NAVFAC NW., 1101 Tautog Circle, Silverdale, WA 98315, telephone (360) 396-0083, email susan.s.hughes@navy.mil, by March 27, 2017. After that date, if no additional requestors have come forward, transfer of control of the human remains to the Jamestown S'Klallam Tribe, Lower Elwha Tribal Community (previously listed as the Lower Elwha Tribal Community of the Lower Elwha Reservation, Washington), and Port Gamble S'Klallam Tribe (previously listed as the Port Gamble Band of S'Klallam Indians) may proceed.

The Department of the Navy is responsible for notifying the Jamestown S'Klallam Tribe, Lower Elwha Tribal Community (previously listed as the Lower Elwha Tribal Community of the Lower Elwha Reservation, Washington), and Port Gamble S'Klallam Tribe (previously listed as the Port Gamble Band of S'Klallam Indians) that this notice has been published.

Dated: January 9, 2017.
Melanie O'Brien,
Manager, National NAGPRA Program.

[FR Doc. 2017-03611 Filed 2-23-17; 8:45 am]

BILLING CODE 4312-52-P